DEPARTMENT OF TRANSPORTATION

Federal Aviation Administration

Notice of Intent to Request Review From the Office of Management and Budget (OMB) of One Proposed Public Collection of Information

AGENCY: Federal Aviation Administration (FAA), DOT.

ACTION: Notice.

SUMMARY: In compliance with the Paperwork Reduction Act (44 U.S.C. 3501 et seq.), the FAA invites public comment on one proposed public information collection which will be submitted to OMB for approval.

DATES: Comments must be received on or before September 8, 2003.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following proposed collection of information in order to evaluate the necessity of the collection, the accuracy of the agency's estimate of the burden, the quality, utility, and clarity of the information to be collected, and possible ways to minimize the burden of the collection in preparation for submission to renew the clearances of the following information collections.

The following is a description of the collection activity:

Title: Information for the Prevention of Aircraft Collisions on Runways at Towered Airports. The Federal Aviation Administration (FAA) Office of Runway Safety (ARI) would like to collect data on a periodic basis to determine performance of people operating in the National Airspace System (NAS) in relation to runway incursion risk. Information to be collected will include voluntary feedback on the efficacy of runway safety initiatives designed to reduce the risk of collision on the Nation's runways. Reduction of runway incursions is listed by the Department of Transportation (DOT) Office of the Inspector General (OIG) as one of the top ten transportation management improvements needed, and the National Transportation Safety Board (NTSB) has selected runway safety as one of their “most wanted” transportation safety improvements. There is a lack of feedback information from people working and flying on the runways in the NAS. Feedback gathered on the accuracy and effectiveness of collision prevention methods will be used by the FAA in the future to improve safety performance. Data will be collected from varied respondents who have the potential to be involved in a runway collision. The sample population will be stratified into four general areas: Pilots, vehicle drivers, pedestrians, and management who exercise oversight of the varied respondents.

An annual total of 12,500 hours of burden are expected from an estimated 150,000 potential annual respondents; however, the FAA estimates a 25% response rate.

Issued in Washington, DC, on June 30, 2003.
Judith D. Street,
FAA Information Collection Clearance Officer, APF-100.

[FR Doc. 03-17117 Filed 7-7-03; 8:45 am]

BILLING CODE 4910-13-M